NATIONAL AERONAUTICS AND SPACE ADMINISTRATION

14 CFR Ch. V

Regulatory Agenda

AGENCY: National Aeronautics and Space Administration (NASA).

ACTION: Semiannual regulatory agenda.

SUMMARY: NASA's regulatory agenda describes those regulations being considered for development or amendment by NASA, the need and legal basis for the actions being considered, the name and telephone number of the knowledgeable official, whether a regulatory analysis is required, and the status of regulations previously reported.

ADDRESSES: Assistant Administrator for Internal Controls and Management Systems, Office of Institutions and Management, NASA Headquarters, Washington, DC 20546.

FOR FURTHER INFORMATION CONTACT: Cheryl E. Parker, 202 358-0252.

SUPPLEMENTARY INFORMATION: OMB guidelines dated June 30, 2011; “Fall 2011 Regulatory Plan and Unified Agenda of Federal Regulatory and Deregulatory Actions” require a regulatory agenda of those regulations under development and review to be published in the Federal Register each April and October. This edition of the Unified Agenda includes NASA's Statement of Regulatory Priorities, which appears in Part II of this issue of the Federal Register. The complete Unified Agenda will be published at www.reginfo.gov.

Dated: September 19, 2011.
Lou Becker,
Assistant Administrator, for Internal Controls and Management Systems.

National Aeronautics and Space Administration—Final Rule Stage
Sequence No. | Title | Regulation Identifier No.
449 | Accessibility Standards for New Construction and Alterations in Federally-Assisted Programs (Section 610 Review) | 2700-AD85

NATIONAL AERONAUTICS AND SPACE ADMINISTRATION (NASA)

Final Rule Stage

449. • Accessibility Standards for New Construction and Alterations in Federally-Assisted Programs (Section 610 Review)

Legal Authority: 29 U.S.C. 794—sec 504 of the Rehabilitation Act of 1973, amended

Abstract: The purpose of this rulemaking action is to update NASA's regulation (14 CFR 1251) implementing the federally-assisted provisions of section 504 of the Rehabilitation Act of 1973 (section 504), as amended, 29 U.S.C. section 794 which prohibits discrimination on the basis of disability by recipients of Federal Financial Assistance from NASA. Under Executive Order No. 12250, the United States Attorney General has the authority to coordinate the implementation and enforcement of a variety of civil rights statutes by Federal agencies such as NASA, including section 504. Recent rulemaking from the U.S. Department of Justice (DOJ) that revised the standards that determine whether structural elements of buildings and facilities are accessible to individuals with disabilities requires NASA to revise its section 504 regulations in alignment with DOJ's implementing regulations incorporating the new accessibility standards.

On September 15, 2010, DOJ issued revised regulations under title II (28 CFR part 35) and title III (28 CFR part 36) of the Americans with Disabilities Act (ADA), including the promulgation of revised Standards for Accessible Design (commonly referred to as “2010 Standards”). See 75 FR 56164 and 56236. On March 11, 2011, DOJ published certain corrections to the revised regulations. See 75 FR 13385 and 13286. The revised ADA title II and title III regulations became effective on March 15, 2011, and are published in the 2011 edition of the Code of Federal Regulations. However, the 2010 Standards are not required for new construction and alteration projects until March 15, 2012. See 28 CFR sections 35.151(c)(2) and 36.406(a)(2). On March 15, 2012, the 2010 Standards will replace the Uniform Federal Accessibility Standards (UFAS) as the accessibility standards for new construction, alterations, program accessibility, and barrier removal under the ADA, and consequently, for section 504. Currently, the accessibility standard implemented by NASA for its federally assisted programs under section 504 is UFAS, which is located at 14 CFR 1251.302. As a result of DOJ's rulemaking actions, NASA proposes to: (1) Replace UFAS with the 2010 Standards as the accessibility standard under section 504; and (2) clarify the applicability of accessibility standards according to the time period when a recipient starts new construction or alterations on buildings and facilities. Accordingly, NASA proposes to revise 14 CFR 1251.302 and adopt the 2010 Standards effective March 15, 2012 as the only enforceable accessibility standard. NASA also proposes to revise 14 CFR 1251.302 to clarify that (1) any new construction or alterations commenced by a recipient before September 15, 2010, shall comply with UFAS; (2) any new construction or alterations commenced by a recipient on and after September 15, 2010, and before March 15, 2012, may comply with either UFAS or the 2010 standards; and (3) any new construction or alterations commenced by a recipient on or after March 15, 2012, shall comply with the 2010 Standards.

Timetable:

Action | Date | FR Cite
Final Rule | 10/00/12 |

Regulatory Flexibility Analysis Required: No.

Agency Contact: Robert W. Cosgrove, External Compliance Manager, National Aeronautics and Space Administration, 300 E Street SW., Washington, DC 20546, Phone: 202 358-0446, Fax: 202 358-3336, Email: robert.cosgrove@nasa.gov.

RIN: 2700-AD85

[FR Doc. 2012-1659 Filed 2-10-12; 8:45 am]

BILLING CODE 7510-13-P